NATIONAL TRANSPORTATION SAFETY BOARD

Sunshine Act Meeting

TIME AND DATE: 9:30 a.m., Tuesday, April 9, 2013.

PLACE: NTSB Conference Center, 429 L'Enfant Plaza SW., Washington, DC 20594.

STATUS: The two items are open to the public.

Matter To Be Considered

8479 Aircraft Accident Report—Crash Following Loss of Engine Power Due to Fuel Exhaustion, Air Methods Corporation, Eurocopter AS350 B2, N352LN, Near Mosby, Missouri, August 26, 2011 and

Safety Alert—Distracting Devices? Turn Them Off!

8478 Marine Accident Report—Personnel Abandonment of Weather-Damaged US Liftboat Trinity II, with Loss of Life, Bay of Campeche, Gulf of Mexico, September 8, 2011

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Friday, April 5, 2013.

The public may view the meeting via a live or archived webcast by accessing a link under “News & Events” on the NTSB home Web page at www.ntsb.gov.

Schedule updates including weather-related cancellations are also available at www.ntsb.gov.

FOR MORE INFORMATION CONTACT: Candi Bing, (202) 314-6403 or by email at bingc@ntsb.gov.

FOR MEDIA INFORMATION CONTACT: Keith Holloway, (202) 314-6100 or by email at Hollowk@ntsb.gov. for the Marine Accident Report: Trinity II, or Peter Knudson, (202) 314-6100 or by email at peter.knudson@ntsb.gov for the Aircraft Accident Report: Mosby, MO and the Safety Alert.

Dated: Friday, March 22, 2013.
Candi R. Bing,
Federal Register Liaison Officer.

[FR Doc. 2013-07099 Filed 3-22-13; 4:15 pm]

BILLING CODE 7533-01-P